FEDERAL COMMUNICATIONS COMMISSION

47 CFR Part 64

[WC Docket No. 12-375, DA 21-1297; FRS 54866]

Rates for Interstate Inmate Calling Services

AGENCY: Federal Communications Commission.

ACTION: Proposed rule; extension of reply comment period.

SUMMARY: In this document, the Federal Communications Commission is extending the time to file reply comments in response to the 2021 ICS Further Notice in this proceeding in order to afford interested parties sufficient time to prepare them.

DATES: Reply Comments in response to the 2021 ICS Further Notice are due December 17, 2021.

ADDRESSES: You may submit comments, identified by WC Docket No. 12-375, by any of the following methods:

• Electronic Filers: Comments may be filed electronically using the internet by accessing the ECFS: https://apps.fcc.gov/ecfs/.

• Paper Filers: Parties who choose to file by paper must file an original and one copy of each filing.

• Filings can be sent by commercial overnight courier, or by first-class or overnight U.S. Postal Service mail. All filings must be addressed to the Commission's Secretary, Office of the Secretary, Federal Communications Commission.

• Commercial overnight mail (other than U.S. Postal Service Express Mail and Priority Mail) must be sent to 9050 Junction Drive, Annapolis Junction, MD 20701.

• U.S. Postal Service first-class, Express, and Priority mail must be addressed to 45 L Street NE, Washington, DC 20554.

• Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020). https://www.fcc.gov/document/fcc-closes-headquarters-open-window-and-changes-hand-delivery-policy.

People with Disabilities: To request materials in accessible formats for people with disabilities (braille, large print, electronic files, audio format), send an email to fcc504@fcc.gov or call the Consumer & Governmental Affairs Bureau at 202-418-0530 (voice), 202-418-0432 (TTY).

FOR FURTHER INFORMATION CONTACT: Simon Solemani, Pricing Policy Division of the Wireline Competition Bureau, at (202) 418-2270 or via email at simon.solemani@fcc.gov.

SUPPLEMENTARY INFORMATION: This is a summary of the FCC's Order, DA 21-1297, released October 15, 2021. The full text of this Order is available at: https://docs.fcc.gov/public/attachments/DA-21-1297A1.pdf. The full text of Global Tel*Link Corporation (GTL)'s motion is available at: https://ecfsapi.fcc.gov/file/1007291601627/GTL%20Extension%20Request%20(10-6-21).pdf.

1. By this Order, the Wireline Competition Bureau (Bureau) of the Federal Communications Commission grants in part and denies in part a motion filed by Global Tel*Link Corporation (GTL) seeking extensions of time for (1) filing Paperwork Reduction Act (PRA) comments on new information collection requirements adopted in the 2021 ICS Order currently due October 25, 2021, (2) reply comments in response to the 2021 ICS Further Notice, currently due October 27, 2021, and (3) comments and reply comments regarding the Third Mandatory Data Collection, currently due November 4 and November 19, 2021. In view of GTL's Extension Request and the record developed in response to it, we grant an extension of time to file reply comments in response to the 2021 ICS Further Notice and deny GTL's other extension requests as set forth below. As a result, reply comments in response to the 2021 ICS Further Notice are now due on December 17, 2021. All other comment and reply comment deadlines in this proceeding remain unchanged.

2. On May 24, 2021, the Commission released the ICS Third Report and Order, Order on Reconsideration, and Fifth Further Notice of Proposed in this proceeding. In the 2021 ICS Order, the Commission adopted various rules, some of which require approval from the Office of Management and Budget (OMB) under the PRA. On August 25, 2021, the Federal Register published a notice setting a comment date of October 25, 2021 on the rules adopted in the 2021 ICS Order that require OMB approval under the PRA.

3. The 2021 ICS Further Notice set deadlines for filing comments and reply comments at 30 and 60 days, respectively, after a summary of the item was published in the Federal Register. The Federal Register published that summary on July 28, 2021, establishing an August 27, 2021 comment deadline and a September 27, 2021 reply comment deadline. In response to a prior motion for extension of time, the Bureau released an order extending those deadlines to September 27, 2021 and October 27, 2021, respectively.

4. As part of the 2021 ICS Order, the Commission also adopted a Third Mandatory Data Collection. The Commission directed WCB and the Office of Economics and Analytics (collectively WCB/OEA) to develop instructions and a template for the data collection to be submitted to OMB for its approval under the PRA no later than 90 days after the 2021 ICS Order becomes effective. We interpret this reference to the effective date of the 2021 ICS Order as referring to the effective date of the rules not requiring OMB approval under the PRA. That effective date is October 26, 2021. As the 2021 ICS Order will be effective on October 26, 2021, WCB/OEA must submit a template and instructions to OMB no later than January 24, 2022. On September 22, 2021, WCB/OEA released a public notice seeking comment on the proposed instructions, a template, and certification forms for the Third Mandatory Data Collection. The Third MDC Public Notice set the comment deadline at 30 days after the date of publication in the Federal Register and the reply comment deadline at 45 days after the date of publication in the Federal Register. The Federal Register published a summary of the public notice on October 5, 2021 and established deadlines of November 4, 2021 for comments and November 19, 2021 for reply comments on the Third MDC Public Notice.

5. On October 6, 2021, GTL filed its Extension Request, seeking to extend the filing deadlines for (1) PRA comments for the new information collection requirements adopted in the 2021 ICS Order from October 25, 2021 to November 8, 2021; (2) reply comments on the 2021 ICS Further Notice from October 27, 2021 to November 17, 2021; and (3) comments and reply comments on the Third Mandatory Data Collection from November 4, 2021 and November 19, 2021 to November 24, 2021 and December 9, 2021, respectively. GTL explains that it is “in the process of implementing the interim rates, ancillary service charges, and other changes” adopted in the 2021 ICS Order that will become effective October 26, 2021. GTL highlights that the October 26 implementation deadline in conjunction with the other comments deadlines present a “perfect storm” of deadlines and argues that “changing only one comment date will just continue to perpetuate the problem given the successive comment deadlines.” GTL submits that its extension requests are in the public interest because they would allow GTL and other providers to focus on the October 26, 2021 implementation deadline while allowing stakeholders time to evaluate the information submitted in initial comments on the 2021 ICS Further Notice and to respond to the questions in the Third MDC Public Notice. GTL explains that the National Sheriffs' Association, Securus Technologies, Pay Tel Communications, and NCIC Inmate Communications do not oppose its extension requests and that several advocacy groups support extending the reply comment deadline on the 2021 ICS Further Notice to December 10, 2021. GTL notes that the Prison Policy Initiative does not support extending that reply comment deadline but does not object to extending the PRA comment deadline and the deadlines on the Mandatory Data Collection.

6. On October 8, 2021, the Wright Petitioners, Benton Institute for Broadband & Society, Free Press, New America's Open Technology Institute, Public Knowledge, and the United Church of Christ, OC Inc. (the Public Interest Parties) filed a reply to GTL's Extension Request. The Public Interest Parties support extending the deadline to file reply comments in connection with the 2021 ICS Further Notice but oppose GTL's request for extensions of the PRA and Third Mandatory Data Collection deadlines. The Public Interest Parties also propose further extending the deadline for reply comments on the 2021 ICS Further Notice to December 17, 2021, arguing that such an extension “will allow interested parties to fully evaluate and respond to issues raised in the comments while also submitting PRA and Third Mandatory Data Collection comments.” The Public Interest Parties emphasize that “[g]iven the importance of obtaining updated cost data as soon as possible . . . it is critical that the Third Mandatory Data Collection is finalized `not later than 90 days' after the effective date of the 2021 ICS Order, as required by the Commission” and argue that extending deadlines related to the Third Mandatory Data Collection “is unnecessary, could harm the public interest, and risks delaying the collection itself.”

7. As set forth in section 1.46 of the Commission's rules, it is the policy of the Commission that extensions of time shall not be routinely granted. However, extensions may be considered “to the extent that good cause for an extension is demonstrated.” The criteria for granting requests for extensions of time “are that the extension be in the public interest, cause no harm to any party in the proceeding, and cause no significant delay.” The Commission has previously found that an extension of time is warranted when it is “necessary to ensure that the Commission receives full and informed responses and that affected parties have a meaningful opportunity to develop a complete record for the Commission's consideration.”

8. Here, we find good cause to extend the deadline to file reply comments in response to the 2021 ICS Further Notice, as proposed by both GTL and the Public Interest Parties. As an initial matter, we are sensitive to GTL's concern that the flow of implementation and comment deadlines in this proceeding create a “perfect storm” that, without some adjustment, would make it difficult for GTL and other parties to meaningfully participate in each comment process. We appreciate what appears to be the unanimous support of interested parties for the goal of more fully developing the record in this proceeding. By moving the deadline to file reply comments on the 2021 ICS Further Notice to well after both the deadline for reply comments on the Third MDC Public Notice and the December 6, 2021 deadline for PRA comments on the Third Mandatory Data Collection, we are persuaded that all interested parties will be granted sufficient time to meaningfully respond to each of the relevant deadlines. Accordingly, we extend the deadline to file reply comments in response to the 2021 ICS Further Notice to December 17, 2021.

9. However, we do not find good cause to extend the deadline for commenting on the paperwork implications of the consumer disclosure requirements and requirements for providers seeking waiver of the Commission's rate cap and ancillary charge fee caps adopted in the 2021 ICS Order. Parties have known that those requirements would be subject to OMB approval since the Commission released the 2021 ICS Order on May 24, 2021. Accordingly, we believe there has been ample time to consider the paperwork implications of those requirements, and no party has provided an explanation as to why an extension of this deadline would be reasonable or in the public interest in light of that fact. We find especially meaningful the fact that an extension of this deadline would only delay the effective date of the information collection requirements adopted in the 2021 ICS Order. The consumer disclosure requirements, for example, are grounded in the “strong public interest in facilitating greater transparency” with respect to inmate calling services rates for incarcerated people and their loved ones who “ultimately bear the burden of these payments.” As such, we conclude that an extension of this deadline would not serve the public interest.

10. We also do not find good cause to delay deadlines associated with the Third Mandatory Data Collection. As the Commission explained in the 2021 ICS Order, the Third Mandatory Data Collection “is essential to enable [it] to adopt permanent interstate and international rate caps,” and that “the benefits of conducting a third collection far outweigh any burden on providers.” GTL's proposal to extend the comment deadline risks delaying the Third Mandatory Data Collection. Moreover, delaying these comment deadlines could endanger the Commission-established January 24, 2022 deadline for WCB/OEA to submit the template and instructions for the Third Mandatory Data Collection to OMB, as any delays in these comment deadlines would significantly limit the time WCB/OEA have to review the comments prior to the January 24, 2022 deadline or alternatively would result in adversely delaying the submission of the data collection to OMB. In light of the clear importance and time constraints of the Third Mandatory Data Collection, we conclude that GTL has not shown good cause to extend these deadlines nor would it serve the public interest to do so.

11. On balance, we conclude that extending the reply comment deadline for the 2021 ICS Further Notice to December 17, 2021 will provide interested parties the time needed to participate in each comment or reply cycle as desired without unnecessarily impeding or delaying the Third Mandatory Data Collection or implementation of the transparency rules.

12. This action is taken pursuant to delegated authority 47 CFR 0.291.

Federal Communications Commission.
Daniel Kahn,
Associate Bureau Chief, Wireline Competition Bureau.

[FR Doc. 2021-23696 Filed 11-1-21; 8:45 am]

BILLING CODE 6712-01-P